SECURITIES AND EXCHANGE COMMISSION

[File No. 500-1]

In the Matter of One Price Clothing Stores, Inc.; Order of Suspension of Trading

February 12, 2007.

It appears to the Securities and Exchange Commission that there is a lack of current and accurate information concerning the securities of One Price Clothing Stores, Inc. (“One Price”), a Delaware Corporation formerly headquartered in Duncan, South Carolina, which trades in the Pink Sheets under the symbol “ONPRQ,” because it has not filed any periodic reports since the period ended November 1, 2003.

The Commission is of the opinion that the public interest and the protection of investors require a suspension of trading in the securities of the above listed company.

Therefore, It Is Ordered, pursuant to Section 12(k) of the Securities Exchange Act of 1934, that trading in the above listed company is suspended for the period from 9:30 a.m. EST, February 12, 2007 through 11:59 p.m. EST, on February 26, 2007.

By the Commission.
J. Lynn Taylor,
Assistant Secretary.

[FR Doc. 07-696 Filed 2-12-07; 11:08 am]

BILLING CODE 8010-01-P